DEPARTMENT OF LABOR

Employment and Training Administration

[TA-W-72,933]

Hewlett Packard; Hewlett Packard—Enterprise Business Services Formerly Known as Electronic Data Systems, Including On-Site Leased Workers From Sun Microsystems, Inc., Dell Computer Corp., EMC Corp., EMC Corp. Total, Cisco Systems Capital Corporation, Microsoft Corp., Symantec Corp., Xerox Corp., Vmware, Inc., Sun Microsystems Federal, Inc., and ABM Business Machines, Inc., Pontiac, MI; Amended Certification Regarding Eligibility To Apply for Worker Adjustment Assistance

In accordance with Section 223 of the Trade Act of 1974, as amended (“Act”), 19 U.S.C. 2273, the Department of Labor issued a Certification of Eligibility to Apply for Worker Adjustment Assistance on January 25, 2010, applicable to workers of Hewlett Packard, Hewlett Packard—Enterprise Business Services, formerly known as Electronic Data Systems, including on-site leased workers from the above listed firms, Pontiac, Michigan. The petition is dated October 24, 2009. The Department's Notice of determination was published in the Federal Register on March 5, 2010 (75 FR 10322).

The worker group covered by TA-W-72,933 is identical to the worker group covered by an earlier petition (TA-W-71,468; dated June 25, 2009). While it is the Department's practice to terminate the later petition in order to provide the longest period during which a member of the worker group may apply for Trade Adjustment Assistance (TAA), the Department had delayed the investigation for TA-W-71,468 due to a technical deficiency and continued the investigation for TA-W-72,933. Following the issuance of the certification in TA-W-72,933, the Department issued a Notice of Termination of Investigation for TA-W-71,468.

An unintended result of the Department's decision is that a portion of workers covered by TA-W-71,468 (workers separated on/after June 25, 2008) are excluded from the certification of TA-W-72,933 (workers separated on/after October 30, 2008, through January 25, 2012).

Accordingly, the Department is amending this certification to include workers covered by TA-W-71,468.

The intent of the Department's certification is to include all workers of the subject firm who were adversely affected by the subject firm's acquisition from a foreign country services like or directly competitive with the services supplied by the workers at the Pontiac, Michigan, facility.

The amended notice applicable to TA-W-72,933 is hereby issued as follows:

All workers of Hewlett Packard, Hewlett Packard Enterprise Services, formerly known as Electronic Data Systems, including on-site leased workers from Sun Microsystems, Inc., Dell Computers Corp., EMC Corp., EMC Corp. Total, Cisco Systems Capital Corp., Microsoft Corp., Symantec Corp., Xerox Corp., VMWare, Inc., Sun Microsystems Federal, Inc., and ABM Business Machines, Inc., Pontiac, Michigan, who became totally or partially separated from employment on or after June 25, 2008, through January 25, 2012, and all workers in the group threatened with total or partial separation from employment on date of certification through January 25, 2012, are eligible to apply for adjustment assistance under Chapter 2 of Title II of the Trade Act of 1974, as amended.

Signed in Washington, DC, this 13th day of July 2010.
Elliott S. Kushner,
Certifying Officer, Division of Trade Adjustment Assistance.

[FR Doc. 2010-18190 Filed 7-23-10; 8:45 am]

BILLING CODE 4510-FN-P